DEPARTMENT OF EDUCATION

[CFDA No: 84.215E]

Elementary and Secondary School Counseling Programs

AGENCY: U.S. Department of Education.

ACTION: Notice inviting applications for new awards for fiscal year (FY) 2002.

SUMMARY: We invite applications for new grant awards for FY 2002 for the Elementary and Secondary School Counseling Programs. These grants are authorized under Title V, Part D, Subpart 2 of the Elementary and Secondary Education Act (ESEA). We also announce the final priority and selection criteria to govern this competition and FY 2002 award of these grants. The Office of Elementary and Secondary Education, Safe and Drug-Free Schools Program will administer this grant competition.

Purpose of Program: The purpose of this program is to focus Federal financial assistance on establishing and expanding elementary school counseling programs.

Eligible Applicants: Eligible applicants under this competition are local educational agencies (LEAs). LEAs may apply in consortia with one or more LEAs; however, each participating LEA must ensure that all requirements of the priority for this competition are met.

Applications Available: March 28, 2002.

Deadline for Receipt of Applications: May 13, 2002.

Deadline for Intergovernmental Review: July 11, 2002.

Available Funds: approximately $2.3 million.

Estimated Number of Awards: 7.

Maximum Grant Award: $400,000 (for each year of funding).

Estimated Size of Awards: $250,000—$400,000.

Estimated Average Size of Awards: $335,000.

Note: This Department is not bound by any estimates in this notice.

Project Period: Up to 36 months.

Applicable Program Regulations: The Education Department General Administrative Regulations (EDGAR) in 34 CFR parts 75, 77, 79, 80, 81, 82, 85, 97, 98, and 99.

SUPPLEMENTARY INFORMATION: In making awards under this grant program, we will ensure an equitable geographic distribution among the regions of the United States and among LEAs located in urban, suburban, and rural areas.

Contingent upon the availability of funds, we may make additional awards in FY 2003 from the rank-ordered list of unfunded applications from this competition.

Note: Section 5421(g)(2) of the ESEA requires the Secretary to award grants to LEAs only to establish or expand counseling programs in elementary schools if the appropriation for the program is less than $40,000,000. The appropriation for fiscal year 2002 is $32,500,000, so FY 2002 funds may be used only to establish or expand counseling programs in elementary schools.

Definitions: By statute, the following definitions apply to this program:

(1) The term ‘child and adolescent psychiatrist' means an individual who-

(A) possesses State medical licensure; and

(B) has completed residency training programs in both general psychiatry and child and adolescent psychiatry;

(2) The term ‘other qualified psychologist' means an individual who has demonstrated competence in counseling children in a school setting and who-

(A) is licensed in psychology by the State in which the individual works; and

(B) practices in the scope of the individual's education, training, and experience with children in school settings;

(3) The term ‘school counselor’ means an individual who has documented competence in counseling children and adolescents in a school setting and who—

(A) is licensed by the State or certified by an independent professional regulatory authority;

(B) in the absence of such State licensure or certification, possesses national certification in school counseling or a specialty of counseling granted by an independent professional organization; or

(C) holds a minimum of a master's degree in school counseling from a program accredited by the Council for Accreditation of Counseling and Related Educational Programs or the equivalent;

(4) The term ‘school psychologist’ means an individual who—

(A) has completed a minimum of 60 graduate semester hours in school psychology from an institution of higher education and has completed 1,200 clock hours in a supervised school psychology internship, of which 600 hours are in the school setting;

(B) is licensed or certified in school psychology by the State in which the individual works; or

(C) in the absence of such State licensure or certification, possesses national certification by the National School Psychology Certification Board; and

(5) The term ‘school social worker’ means an individual who—

(A) holds a master's degree in social work from a program accredited by the Council on Social Work Education; and

(B)(i) is licensed or certified by the State in which services are provided; or

(ii) in the absence of such State licensure or certification, possesses a national credential or certification as a school social work specialist granted by an independent professional organization.

Waiver of Proposed Rulemaking: It is the Secretary's practice, in accordance with the Administrative Procedure Act (5 U.S.C. 553), to offer interested parties the opportunity to comment on proposed rules. Section 437 (d)(1) of the General Education Provisions Act (GEPA), however, exempts from this requirement rules that apply to the first competition under a new or substantially revised program. This is the first competition under the Elementary and Secondary School Counseling Programs, which was substantially revised by the No Child Left Behind Act.

Absolute Priority: Under 34 CFR 75.105(c)(3), we give an absolute priority to LEA projects that establish or expand elementary school counseling programs at elementary schools with at least one grade below fifth and no grade higher than eighth. Under this competition, we fund only applications that meet this absolute priority.

Statutory Requirements: The statute requires each program assisted under this competition to:

(1) Be comprehensive in addressing the counseling and educational needs of all students;

(2) Use a developmental, preventive approach to counseling;

(3) Increase the range, availability, quantity, and quality of counseling services in elementary schools of the LEA;

(4) Expand counseling services through qualified school counselors, school social workers, school psychologists, other qualified psychologists, or child and adolescent psychiatrists;

(5) Use innovative approaches to increase children's understanding of peer and family relationships, work and self, decision making, academic and career planning, or to improve peer interaction;

(6) Provide counseling services in settings that meet the range of student needs;

(7) Include in-service training for teachers, instructional staff, and appropriate school personnel, including in-service training in appropriate identification and early intervention techniques by school counselors, school social workers, school psychologists, other qualified psychologists, and child and adolescent psychiatrists;

(8) Involve parents of participating students in the design, implementation, and evaluation of the counseling program;

(9) Involve community groups, social service agencies, or other public or private entities in collaborative efforts to enhance the program and promote school-linked integration of services;

(10) Evaluate annually the effectiveness and outcomes of the counseling services and activities assisted under this section;

(11) Ensure a team approach to school counseling in the schools served by the LEA by working toward ratios recommended by the American School Health Association of one school counselor to 250 students, one school social worker to 800 students, and one school psychologist to 1,000 students; and

(12) Ensure that school counselors, school psychologists, other qualified psychologists, school social workers, or child and adolescent psychiatrists paid from funds made available under this section spend a majority of their time counseling students or in other activities directly related to the counseling process.

The statute also requires each grantee to—

(1) Assure that the funds made available for any fiscal year will be used to supplement, and not supplant, any other Federal, State, or local funds used for providing school-based counseling and mental health services to students.

(2) Assure that the applicant will appoint an advisory board composed of interested parties, including parents, teachers, school administrators, counseling service providers, and community leaders to advise the LEA on the design and implementation of the counseling program.

(3) Use not more than 4 percent of the amounts made available for any fiscal year for administrative costs.

Selection Criteria: We will use the following selection criteria to evaluate applications under this competition.

The maximum score for all of these criteria is 100 points.

The maximum score for each criterion is indicated in parenthesis with the criterion.

(1) Need for the project (20 points).

(A) Applicants must propose projects that demonstrate the greatest need for new or additional counseling services among children in the elementary schools served by the project;

(B) In determining applications with the greatest need the following factors are considered:

(i) The magnitude or severity of the problem to be addressed by the proposed project;

(ii) The magnitude of the need for the services to be provided or the activities to be carried out by the proposed project; and

(iii) The extent to which specific gaps or weaknesses in services, infrastructure, or opportunities have been identified and will be addressed by the proposed project, including the nature and magnitude of those gaps or weaknesses; and

(C) In describing the proposed project, applicants must:

(i) Describe the school population to be targeted by the program; the particular counseling needs of that population; the current ratios of students to school counselors, students to school social workers, and students to school psychologists; and the current school counseling resources available for meeting such needs; and

(ii) Describe how diverse cultural populations, if applicable, will be served through the program.

(2) Quality of the project design (20 points).

(A) Applicants must propose projects that demonstrate the most promising and innovative approaches for initiating or expanding counseling services in the target schools;

(B) In determining the quality of the project design the following factors are considered:

(i) The extent to which the design of the proposed project is appropriate to, and will successfully address, the counseling needs of the target population;

(ii) The extent to which the proposed project is designed to build capacity and yield results that will extend beyond the period of Federal financial assistance; and

(iii) The extent to which the proposed project will establish linkages with other appropriate agencies or organizations providing services to the target population; and

(C) In describing the project design, applicants must:

(i) Describe the activities, services, and training to be provided by the program and the specific approaches to be used to meet the needs of the target population; and

(ii) Describe how the LEA will involve community groups, social service agencies, and other public and private entities in collaborative efforts to enhance the program and promote school-linked services integration.

(3) Quality of the project evaluation (20 points).

(A) Applicants must provide a detailed description of their plan to annually evaluate the outcomes and effectiveness of the proposed counseling services and strategies;

(B) In determining the quality of the project evaluation the following factors are considered:

(i) The extent to which the methods of evaluations are thorough, feasible, measurable, and appropriate to the goals, objectives, and outcomes of the proposed project;

(ii) The extent to which the methods of evaluation include the use of objective performance measures that are clearly related to the intended outcomes of the project and will produce quantitative and qualitative data to the extent possible; and

(iii) The extent to which the evaluation will provide guidance about effective strategies suitable for replication or testing in other settings; and

(C) In describing the proposed project evaluation, applicants must:

(i) Describe the methods to be used to evaluate the outcomes and effectiveness of the project; and

(ii) Agree to cooperate with any national evaluation of this grant competition that we may require.

(4) Quality of the management plan (20 points).

(A) Applicants must provide a detailed description of their plan to manage the activities outlined in their proposal;

(B) In determining the quality of the management plan the following factors are considered:

(i) The adequacy of the management plan to achieve the objectives of the proposed project on time and within budget, including clearly defined responsibilities, timeliness, and milestones for accomplishing project tasks;

(ii) The extent to which the time commitments of the project director, project evaluator, and other key project personnel are appropriate and adequate to meet the objectives of the proposed project; and

(iii) The extent to which the applicant will ensure that a diversity of perspectives is brought to bear in the operation of the proposed project, including those of parents, teachers, the business community, a variety of disciplinary and professional fields, recipients or beneficiaries of services, or others, as appropriate; and

(C) In describing the management plan, applicants must:

(i) Describe how the LEA will involve community groups, social service agencies, and other public or private entities in collaborative efforts to enhance the program and promote school-linked services integration; and

(ii) Document that the LEA has the personnel qualified to develop, implement, and administer the program.

(5) Adequacy of resources (20 points).

(A) Applicants must describe the resources committed to the proposed project;

(B) In determining the adequacy of resources for the proposed project, the following factors are considered:

(i) The relevance and demonstrated commitment of each partner in the proposed project to the implementation and success of the project;

(ii) The extent to which the costs are reasonable in relation to the number of persons to be served and to the anticipated results and benefits; and

(iii) The potential for the incorporation of the project purposes, activities, or benefits into the ongoing program of the agency or organization at the end of Federal funding.

Pilot Project for Electronic Submission of Applications

In FY 2002, the U.S. Department of Education is expanding its pilot project of electronic submission of applications to include certain formula grant programs, as well as additional discretionary grant competitions. The Elementary and Secondary School Counseling Programs is one of the programs included in the pilot project. If you are an applicant under the Elementary and Secondary School Counseling Program, you may submit your application to us in either electronic or paper format.

The pilot project involves the use of the Electronic Grant Application System (e-APPLICATION, formerly e-GAPS) portion of the Grant Administration and Payment System (GAPS). We request your participation in this pilot project. We shall continue to evaluate its success and solicit suggestions for improvement.

If you participate in this e-APPLICATION pilot, please note the following:

• Your participation is voluntary.

• You will not receive any additional point value or penalty because you submit a grant application in electronic or paper format.

• You can submit all documents electronically, including the Application for Federal Assistance (ED 424), Budget Information—Non-Construction Programs (ED 524), and all necessary assurances and certifications.

• Within three working days of submitting your electronic application fax a signed copy of the Application for Federal Assistance (ED 424) to the Application Control Center after following these steps:

1. Print ED 424 from the e-APPLICATION system.

2. Make sure that the institution's Authorizing Representative signs this form.

3. Before faxing this form, submit your electronic application via the e-APPLICATION system. You will receive an automatic acknowledgement, which will include a PR/Award number (an identifying number unique to your application).

4. Place the PR/Award number in the upper right hand corner of ED 424.

5. Fax ED 424 to the Application Control Center at (202) 260-1349.

• We may request that you give us original signatures on all other forms at a later date.

You may access the electronic grant application for the Elementary and Secondary School Counseling Programs at: http://e-grants.ed.gov.

We have included additional information about the e-APPLICATION pilot project (see Parity Guidelines between Paper and Electronic Applications) in the application package.

For Applications or Information Contact: Loretta McDaniel, U.S. Department of Education, Safe and Drug-Free Schools Program, 400 Maryland Avenue, SW., Room 3E220, Washington, DC 20202-6123. Telephone: (202) 260-2661, or the following e-mail or Internet addresses:

loretta.mcdaniel@ed.gov.

www.ed.gov/offices/OESE/SDFS.

If you use a telecommunications device for the deaf (TDD) you may call the Federal Information Relay Service at 1-800-877-8339.

Individuals with disabilities may obtain a copy of the application package in an alternative format (e.g., Braille, large print, audiotape, or computer diskette) on request to the contact person listed in this section. However, the Department is not able to reproduce in an alternate format the standard forms included in the application package.

Electronic Access to This Document

You may review this document, as well as all other Department of Education documents published in the Federal Register, in text or Adobe Portable Document Format (PDF) on the Internet at the following site: http://www.ed.gov/legislation/FedRegister

To use PDF you must have Adobe Acrobat Reader, which is available free at this site. If you have questions about using PDF, call the U.S. Government Printing Office (GPO), toll free, at 1-888-293-6498, or in the Washington, DC area at (202) 512-1530.

Note: The official version of this document is the document published in the Federal Register. Free Internet access to the official edition of the Federal Register and the Code of Federal Regulations is available on GPO Access at: http://www.access.gpo.gov/nara/index.html

Program Authority: 20 U.S.C. 5421.

Dated: March 25, 2002.
Susan B. Neuman,
Assistant Secretary for Elementary and Secondary Education.

[FR Doc. 02-7474 Filed 3-27-02; 8:45 am]

BILLING CODE 4001-01-M